ENVIRONMENTAL PROTECTION AGENCY

40 CFR Part 721

[EPA-HQ-OPPT-2014-0276; FRL-9910-51]

RIN 2070-AB27

Modification of Significant New Use Rules on Certain Chemical Substances; Update of Chemical Identities

AGENCY: Environmental Protection Agency (EPA).

ACTION: Direct final rule.

SUMMARY: EPA is updating the chemical identities of significant new use rules (SNURs) under the Toxic Substances Control Act (TSCA) for 36 chemical substances which were the subject of premanufacture notices (PMNs). This action updates SNURs that were issued using generic chemical names but will now identify the specific chemical name and chemical abstract number.

DATES: This rule is effective on August 18, 2014. For purposes of judicial review, this rule shall be promulgated at 1 p.m. (e.s.t.) on July 2, 2014.

Written adverse or critical comments, or notice of intent to submit adverse or critical comments, on this direct final rule must be received on or before July 18, 2014 (see Unit III. of the SUPPLEMENTARY INFORMATION). If EPA receives written adverse or critical comments, or notice of intent to submit adverse or critical comments, on before July 18, 2014, EPA will withdraw the relevant sections of this direct final rule before its effective date.

For additional information on related reporting requirement dates, see Units I.A. and III. of the SUPPLEMENTARY INFORMATION.

ADDRESSES: Submit your comments, identified by docket identification (ID) number EPA-HQ-OPPT-2014-0276, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Kenneth Moss, Chemical Control Division (7405M), Office of Pollution Prevention and Toxics, Environmental Protection Agency, 1200 Pennsylvania Ave. NW., Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture, process, or use the chemical substances contained in this rule. The following list of North American Industrial Classification System (NAICS) codes is not intended to be exhaustive, but rather provides a guide to help readers determine whether this document applies to them. Potentially affected entities may include:

• Manufacturers or processors of one or more subject chemical substances (NAICS codes 325 and 324110), e.g., chemical manufacturing and petroleum refineries.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What action is the Agency taking?

Using direct final procedures, EPA is updating the chemical identity listings SNURs for 36 chemical substances which were the subject of PMNs. The SNURs were previously issued using generic chemical names. This action identifies the specific chemical name and chemical abstract number in the modified SNUR, as this information is now publicly available. EPA is not changing the significant new use reporting requirements, the basis, or the findings for these SNURs. These SNURs will continue to require persons to notify EPA at least 90 days before commencing the manufacture or processing of a chemical substance for any activity designated by these SNURs as a significant new use. Receipt of such notices allows EPA to assess risks that may be presented by the intended uses and, if appropriate, to regulate the proposed use before it occurs.

Previously, in the Federal Register of July 28, 2009 (74 FR 37224) (FRL-8392-4), EPA issued a notice “TSCA Chemical Substance Inventory Update; Changing Certain Chemical Substances Identities from Confidential to Non-Confidential.” The notice announced that the specific chemical identities of various chemical substances, including 36 subject to the SNURs identified in this direct final rule, would be listed on the public version of the TSCA Chemical Substance Inventory.

B. What is the Agency's authority for taking this action?

Section 5(a)(2) of TSCA (15 U.S.C. 2604(a)(2)) authorizes EPA to determine that a use of a chemical substance is a “significant new use.” Once EPA determines that a use of a chemical substance is a significant new use, TSCA section 5(a)(1)(B) requires persons to submit a significant new use notice (SNUN) to EPA at least 90 days before they manufacture or process the chemical substance for that use. Persons who must report are described in § 721.5.

III. Direct Final Procedures

EPA is issuing these chemical identity changes as a direct final rule, as described in § 721.160(c)(3) and § 721.170(d)(4). In accordance with § 721.160(c)(3)(ii) and § 721.170(d)(4)(i)(B), the effective date of this rule is August 18, 2014 without further notice, unless EPA receives written adverse or critical comments, or notice of intent to submit adverse or critical comments before July 18, 2014.

If EPA receives written adverse or critical comments, or notice of intent to submit adverse or critical comments, on one or more of these SNURs before July 18, 2014, EPA will withdraw the relevant sections of this direct final rule before its effective date. EPA will then issue a proposed SNUR for the chemical substance(s) on which adverse or critical comments were received, providing a 30-day period for public comment.

This rule updates the chemical identity of SNURs for a number of chemical substances. Any person who submits adverse or critical comments, or notice of intent to submit adverse or critical comments, must identify the chemical substance to which it applies. EPA will not withdraw a SNUR modification for a chemical substance not identified in the comment.

IV. Statutory and Executive Order Reviews

A. Executive Order 12866

This rule modifies SNURs for several new chemical substances that were the subject of PMNs, or TSCA section 5(e) consent orders. This action does not alter any obligations under these SNURs and therefore is not a significant action under Executive Order 12866, entitled “Regulatory Planning and Review” (58 FR 51735, October 4, 1993).

B. Paperwork Reduction Act

According to Paperwork Reduction Act (PRA) (44 U.S.C. 3501 et seq.), an agency may not conduct or sponsor, and a person is not required to respond to a collection of information that requires OMB approval under PRA, unless it has been approved by OMB and displays a currently valid OMB control number. The information collection requirements related to this action have already been approved by OMB pursuant to PRA under OMB control number 2070-0012 (EPA ICR No. 574). This action does not impose any burden requiring additional OMB approval.

C. Regulatory Flexibility Act (RFA)

This rule would provide more specific information on the chemical substances subject to the SNURs affected by the rule, and therefore does not have a significant economic impact on a substantial number of small entities.

D. Unfunded Mandates Reform Act (UMRA)

Based on EPA's experience with proposing and finalizing SNURs, State, local, and Tribal governments have not been impacted by these rulemakings, and EPA does not have any reasons to believe that any State, local, or Tribal government will be impacted by this rule. As such, EPA has determined that this rule does not impose any enforceable duty, contain any unfunded mandate, or otherwise have any effect on small governments subject to the requirements of UMRA sections 202, 203, 204, or 205 (2 U.S.C. 1501 et seq.).

E. Executive Order 13132

This action will not have a substantial direct effect on States, on the relationship between the national government and the States, or on the distribution of power and responsibilities among the various levels of government, as specified in Executive Order 13132, entitled “Federalism” (64 FR 43255, August 10, 1999).

F. Executive Order 13175

This rule does not have Tribal implications because it is not expected to have substantial direct effects on Indian Tribes. This rule does not significantly nor uniquely affect the communities of Indian Tribal governments, nor does it involve or impose any requirements that affect Indian Tribes. Accordingly, the requirements of Executive Order 13175, entitled “Consultation and Coordination with Indian Tribal Governments” (65 FR 67249, November 9, 2000), do not apply to this rule.

G. Executive Order 13045

This action is not subject to Executive Order 13045, entitled “Protection of Children from Environmental Health Risks and Safety Risks” (62 FR 19885, April 23, 1997), because this is not an economically significant regulatory action as defined by Executive Order 12866, and this action does not address environmental health or safety risks disproportionately affecting children.

H. Executive Order 13211

This action is not subject to Executive Order 13211, entitled “Actions Concerning Regulations That Significantly Affect Energy Supply, Distribution, or Use” (66 FR 28355, May 22, 2001), because this action is not expected to affect energy supply, distribution, or use and because this action is not a significant regulatory action under Executive Order 12866.

I. National Technology Transfer and Advancement Act (NTTAA)

In addition, since this action does not involve any technical standards, NTTAA section 12(d) (15 U.S.C. 272 note), does not apply to this action.

J. Executive Order 12898

This action does not entail special considerations of environmental justice related issues as delineated by Executive Order 12898, entitled “Federal Actions to Address Environmental Justice in Minority Populations and Low-Income Populations” (59 FR 7629, February 16, 1994).

V. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 721

Environmental protection, Chemicals, Hazardous substances, Reporting and recordkeeping requirements.

Dated: June 11, 2014.
Maria J. Doa,
Director, Chemical Control Division, Office of Pollution Prevention and Toxics.

Therefore, 40 CFR part 721 is amended as follows:

PART 721—[AMENDED]

1. The authority citation for part 721 continues to read as follows:

Authority: 15 U.S.C. 2604, 2607, and 2625(c).

2. In § 721.303, revise the section heading and paragraph (a)(1) to read as follows:

§ 721.303 Acetic acid, 2-methoxy-, methyl ester.

(a) Chemical substance and significant new uses subject to reporting. (1) The chemical substance identified as acetic acid, 2-methoxy-, methyl ester (PMN P-99-0365, CAS No. 6290-49-9) is subject to reporting under this section for the significant new uses described in paragraph (a)(2) of this section.

* * * * *

3. In § 721.338, revise the section heading and paragraph (a)(1) to read as follows:

§ 721.338 Certain salts of an acrylate copolymer.

(a) Chemical substance and significant new uses subject to reporting. (1) The chemical substances identified as 2-propenoic acid, polymer with 2-propenamide, ammonium salt (PMN P-00-0333; CAS No. 55554-55-7) and generically as salt of an acrylate copolymer (PMN P-00-0334) are subject to reporting under this section for the significant new uses described in paragraph (a)(2) of this section.

* * * * *

4. In § 721.530, revise the section heading and paragraph (a)(1) to read as follows:

§ 721.530 Propanoyl chloride, 3-chloro-2,2-dimethyl-.

(a) Chemical substance and significant new uses subject to reporting. (1) The chemical substance identified as propanoyl chloride, 3-chloro-2,2-dimethyl- (PMN P-84-491; CAS No. 4300-97-4) is subject to reporting under this section for the significant new uses described in paragraph (a)(2) of this section.

* * * * *

5. In § 721.558, revise the section heading and paragraph (a)(1) to read as follows:

§ 721.558 2-Propanol, 1,1′-iminobis-, N-tallow alkyl derivs., hydrochlorides.

(a) Chemical substance and significant new uses subject to reporting. (1) The chemical substance identified as 2-propanol, 1,1′-iminobis-, N-tallow alkyl derivs., hydrochlorides (PMN P-96-1426; CAS No. 1078715-59-9) is subject to reporting under this section for the significant new uses described in paragraph (a)(2) of this section.

* * * * *

6. In § 721.1568, revise the section heading and paragraph (a)(1) to read as follows:

§ 721.1568 Benzenediazonium, 2-(methoxycarbonyl)-, chloride (1:1).

(a) Chemical substance and significant new uses subject to reporting. (1) The chemical substance identified as benzenediazonium, 2-(methoxycarbonyl)-, chloride (1:1) (PMN P-93-533; CAS No. 35358-78-2) is subject to reporting under this section for the significant new uses described in paragraph (a)(2) of this section.

* * * * *

7. In § 721.1625, revise the section heading and paragraph (a)(1) to read as follows:

§ 721.1625 Benzenesulfonic acid, dodecyl-, branched, compds. with N,N-dimethyl-1,3-propanediamine (2:1).

(a) Chemical substance and significant new uses subject to reporting. (1) The chemical substance identified as benzenesulfonic acid, dodecyl-, branched, compds. with N,N-dimethyl-1,3-propanediamine (2:1) (PMN P-90-456; CAS No. 319926-68-6) is subject to reporting under this section for the significant new uses described in paragraph (a)(2) of this section.

* * * * *

8. In § 721.2091, revise the section heading and paragraph (a)(1) to read as follows:

§ 721.2091 Propane, 1,1,1,3,3,3-hexachloro-.

(a) Chemical substance and significant new uses subject to reporting. (1) The chemical substance identified as propane, 1,1,1,3,3,3-hexachloro- (PMN P-96-273; CAS No. 3607-78-1) is subject to reporting under this section for the significant new uses described in paragraph (a)(2) of this section.

* * * * *

9. In § 721.2527, revise the section heading and paragraph (a)(1) to read as follows:

§ 721.2527 Acetamide, N-[2-[2-(2-bromo-6-cyano-4-nitrophenyl)diazenyl]-5-(diethylamino)phenyl]-.

(a) Chemical substance and significant new uses subject to reporting. (1) The chemical substance identified as acetamide, N-[2-[2-(2-bromo-6-cyano-4-nitrophenyl)diazenyl]-5-(diethylamino)phenyl]- (PMN P-95-514; CAS No. 2537-62-4) is subject to reporting under this section for the significant new uses described in paragraph (a)(2) of this section.

* * * * *

10. In § 721.2577, revise the section heading and paragraph (a)(1) to read as follows:

§ 721.2577 Certain copper complexes of (substituted sulfonaphthyl azo substituted phenyl) disulfonaphthyl azo, amine salt.

(a) Chemical substance and significant new uses subject to reporting. (1) The chemical substances identified as cuprate(3-), [3-[2-[5-(hydroxy-.kappa.O)-4-[2-[1-(hydroxy-.kappa.O)-6-(phenylamino)-3-sulfo-2-naphthalenyl]diazenyl-.kappa.N1]-2-methylphenyl]diazenyl]-1,5-naphthalenedisulfonato(5-)]-, hydrogen, compd. with 2,2′-iminobis[ethanol] (1:3:3) (PMN P-00-0364; CAS No. 1078726-27-8) and cuprate(3-), [3-[2-[5-(hydroxy-.kappa.O)-4-[2-[1-(hydroxy-.kappa.O)-6-(phenylamino)-3-sulfo-2-naphthalenyl]diazenyl-.kappa.N1]-2-methylphenyl]diazenyl]-1,5-naphthalenedisulfonato(5-)]-, ammonium (1:3) (PMN P-00-0365; CAS No. 1078726-28-9) are subject to reporting under this section for the significant new uses described in paragraph (a)(2) of this section.

* * * * *

11. In § 721.2805, revise the section heading and paragraph (a)(1) to read as follows:

§ 721.2805 2-Propenoic acid, 2-(phenylthio)ethyl ester.

(a) Chemical substance and significant new uses subject to reporting. (1) The chemical substance identified as 2-propenoic acid, 2-(phenylthio)ethyl ester (PMN P-96-824; CAS No. 95175-38-5) is subject to reporting under this section for the significant new uses described in paragraph (a)(2) of this section.

* * * * *

12. In § 721.3062, revise the section heading and paragraph (a)(1) to read as follows:

§ 721.3062 1H-Indene-2-carboxylic acid, 5-chloro-2,3-dihydro-1-oxo-, methyl ester.

(a) Chemical substance and significant new uses subject to reporting. (1) The chemical substance identified as 1H-indene-2-carboxylic acid, 5-chloro-2,3-dihydro-1-oxo-, methyl ester (PMN P-00-966; CAS No. 65738-56-9) is subject to reporting under this section for the significant new uses described in paragraph (a)(2) of this section.

* * * * *

13. In § 721.3063, revise the section heading and paragraph (a)(1) to read as follows:

§ 721.3063 Certain substituted phenyl azo substituted phenyl esters.

(a) Chemical substance and significant new uses subject to reporting. (1) The chemical substances identified as glycine, N-[3-(acetylamino)-4-[2-(2-cyano-4-nitrophenyl)diazenyl]phenyl]-N-(2-methoxy-2-oxoethyl)-, methyl ester (PMN P-95-0655: CAS No. 149850-30-6); L-alanine, N-[5-(acetylamino)-2-chloro-4-[2-(2-cyano-4-nitrophenyl)diazenyl]phenyl]-, methyl ester (PMN P-95-0782; CAS No. 157707-95-4); and generically as substituted phenyl azo substituted phenyl esters (PMN P-95-0871) are subject to reporting under this section for the significant new uses described in paragraph (a)(2) of this section.

* * * * *

14. In § 721.3380, revise the section heading and paragraph (a)(1) to read as follows:

§ 721.3380 Benzenamine, 4-methoxy-2-methyl-N-phenyl-.

(a) Chemical substance and significant new uses subject to reporting. (1) The chemical substance identified as benzenamine, 4-methoxy-2-methyl-N-phenyl- (PMN P-83-910; CAS No. 41317-15-1) is subject to reporting under this section for the significant new uses described in paragraph (a)(2) of this section.

* * * * *

15. In § 721.3420, revise the section heading and paragraph (a)(1) to read as follows:

§ 721.3420 Benzene, 1-bromo-4-methoxy-2-methyl-.

(a) Chemical substance and significant new uses subject to reporting. (1) The chemical substance identified as benzene, 1-bromo-4-methoxy-2-methyl- (PMN P-83-906; CAS No. 27060-75-9) is subject to reporting under this section for the significant new uses described in paragraph (a)(2) of this section.

* * * * *

16. In § 721.3830, revise the section heading and paragraph (a)(1) to read as follows:

§ 721.3830 Phenol, 2-[[[3-(dimethylamino)propyl]amino]methyl]-6-methyl-, 4-polybutene derivs.

(a) Chemical substance and significant new uses subject to reporting. (1) The chemical substance identified as phenol, 2-[[[3-(dimethylamino)propyl]amino]methyl]-6-methyl-, 4-polybutene derivs. (PMN P-99-0531; CAS No. 1078715-83-9) is subject to reporting under this section for the significant new uses described in paragraph (a)(2) of this section.

* * * * *

17. In § 721.4620, revise the section heading and paragraph (a)(1) to read as follows:

§ 721.4620 Zinc, bis(N,N-dipropyl-.beta.-alaninato-.kappa.N,.kappa.O)-, (T-4)-.

(a) Chemical substance and significant new uses subject to reporting. (1) The chemical substance identified as zinc, bis(N,N-dipropyl-.beta.-alaninato-.kappa.N,.kappa.O)-, (T-4)- (PMN P-90-274; CAS No. 135364-47-5) is subject to reporting under this section for the significant new uses described in paragraph (a)(2) of this section.

* * * * *

18. In § 721.5262, revise the section heading and paragraph (a)(1) to read as follows:

§ 721.5262 2,7-Naphthalenedisulfonic acid, 5-[[4-chloro-6-[[2-[2-(ethenylsulfonyl)ethoxy]ethyl]amino]-1,3,5-triazin-2-yl]amino]-4-hydroxy-3-[2-(1-sulfo-2-naphthalenyl)diazenyl]-, sodium salt (1:3).

(a) Chemical substance and significant new uses subject to reporting. (1) The chemical substance identified as 2,7-naphthalenedisulfonic acid, 5-[[4-chloro-6-[[2-[2-(ethenylsulfonyl)ethoxy]ethyl]amino]-1,3,5-triazin-2-yl]amino]-4-hydroxy-3-[2-(1-sulfo-2-naphthalenyl)diazenyl]-, sodium salt (1:3) (PMN P-00-0803; CAS No. 259795-03-4) is subject to reporting under this section for the significant new uses described in paragraph (a)(2) of this section.

* * * * *

19. In § 721.5325, revise the section heading and paragraph (a)(1) to read as follows:

§ 721.5325 Nickel, tris(neodecanoato-.kappa.O)[.mu.3-[orthoborato(3-)-.kappa.O:.kappa.O′:.kappa.O″]]tri-.

(a) Chemical substance and significant new uses subject to reporting. (1) The chemical substance identified as nickel, tris(neodecanoato-.kappa.O)[.mu.3-[orthoborato(3-)-.kappa.O:.kappa.O′:.kappa.O″]]tri- (PMN P-85-1034; CAS No. 936576-64-6) is subject to reporting under this section for the significant new uses described in paragraph (a)(2) of this section.

* * * * *

20. In § 721.5350, revise the section heading and paragraph (a)(1) to read as follows:

§ 721.5350 Butanenitrile, 2-amino-2,3-dimethyl-.

(a) Chemical substance and significant new uses subject to reporting. (1) The chemical substance identified as butanenitrile, 2-amino-2,3-dimethyl- (PMN P-83-603; CAS No. 13893-53-3) is subject to reporting under this section for the significant new uses described in paragraph (a)(2) of this section.

* * * * *

21. In § 721.8700, revise the section heading and paragraph (a)(1) to read as follows:

§ 721.8700 Pyridine, 2,3-dichloro-5-(trifluoromethyl)-.

(a) Chemical substance and significant new uses subject to reporting. (1) The chemical substance identified as pyridine, 2,3-dichloro-5-(trifluoromethyl)- (PMN P-83-237; CAS No. 69045-84-7) is subject to reporting under this section for the significant new uses described in paragraph (a)(2) of this section.

* * * * *

22. In § 721.9285, revise the section heading and paragraph (a)(1) to read as follows:

§ 721.9285 Schiff bases, from ammonia-diethylene glycol reaction product fractionation forecuts and formaldehyde.

(a) Chemical substance and significant new uses subject to reporting. (1) The chemical substance identified as schiff bases, from ammonia-diethylene glycol reaction product fractionation forecuts and formaldehyde (PMN P-95-535; CAS No. 172343-36-1) is subject to reporting under this section for the significant new uses described in paragraph (a)(2) of this section.

* * * * *

23. In § 721.9480, revise the section heading and paragraph (a)(1) to read as follows:

§ 721.9480 Formaldehyde, polymer with 1,3-benzenediol and ethenylbenzene.

(a) Chemical substance and significant new uses subject to reporting. (1) The chemical substance identified as formaldehyde, polymer with 1,3-benzenediol and ethenylbenzene (PMN P-89-769; CAS No. 135020-80-3) is subject to reporting under this section for the significant new uses described in paragraph (a)(2) of this section.

* * * * *

24. In § 721.9492, revise the section heading and paragraph (a)(1) to read as follows:

§ 721.9492 Certain polymers of styrene, cyclohexyl methacrylate and substituted methacrylate.

(a) Chemical substance and significant new uses subject to reporting. (1) The chemical substances identified as 2-propenoic acid, 2-methyl-, cyclohexyl ester, polymer with ethenylbenzene and 2-oxiranylmethyl 2-methyl-2-propenoate, tert-Bu 2-ethylhexaneperoxoate-initiated (PMN P-97-143; CAS No. 1078715-90-8) and as 2-propenoic acid, 2-methyl-, cyclohexyl ester, polymer with ethenylbenzene, 4-hydroxybutyl 2-propenoate and 2-oxiranylmethyl 2-methyl-2-propenoate, tert-Bu 2-ethylhexaneperoxoate-initiated (PMN P-97-144; CAS No. 1078715-62-4) are subject to reporting under this section for the significant new uses described in paragraph (a)(2) of this section.

* * * * *

25. In § 721.9497, revise the section heading and paragraph (a)(1) to read as follows:

§ 721.9497 Certain trifunctional ketoximino silanes.

(a) Chemical substance and significant new uses subject to reporting. (1) The chemical substances identified generically as trifunctional ketoximino silane (PMN P-95-0605) and as 2-pentanone, 4-methyl-, O,O′,O″-(methylsilylidyne)trioxime (PMN P-95-0606; CAS No. 37859-57-7) are subject to reporting under this section for the significant new uses described in paragraph (a)(2) of this section.

* * * * *

26. In § 721.9635, revise the section heading and paragraph (a)(1) to read as follows:

§ 721.9635 Terpenes and terpenoids, limonene fraction, distn. residues, distillates.

(a) Chemical substance and significant new uses subject to reporting. (1) The chemical substance identified as terpenes and terpenoids, limonene fraction, distn. residues, distillates (PMN P-96-0897; CAS No. 166432-37-7) is subject to reporting under this section for the significant new uses described in paragraph (a)(2) of this section.

* * * * *

27. In § 721.9720, revise the section heading and paragraph (a)(1) to read as follows:

§ 721.9720 Certain disubstituted alkyl triazines.

(a) Chemical substance and significant new uses subject to reporting. (1) The chemical substances identified generically as disubstituted alkyl triazines (PMN P-85-0932) and as 1,3,5-triazin-2-amine, 4-methoxy-N,6-dimethyl- (PMN P-85-0933; CAS No. 5248-39-5) are subject to reporting under this section for the significant new uses described in paragraph (a)(2) of this section.

* * * * *

28. In § 721.9730, revise the section heading and paragraph (a)(1) to read as follows:

§ 721.9730 Certain 1,3,5-triazine-2-amine, 4-dimethylamino-6-substituted.

(a) Chemical substance and significant new uses subject to reporting. (1) The chemical substances identified generically as 1,3,5-triazine-2-amine, 4-dimethylamino-6-substituted (PMN P-92-0343) and as 1,3,5-triazine-2,4-diamine, N2,N2-dimethyl-6-(2,2,2-trifluoroethoxy)- (PMN P-92-0344; CAS No. 145963-84-4) are subject to reporting under this section for the significant new uses described in paragraph (a)(2) of this section.

* * * * *

29. In § 721.9800, revise the section heading and paragraph (a)(1) to read as follows:

§ 721.9800 1,3,5-Triazine, 2,4,6-trichloro-, polymer with piperazine, reaction products with morpholine.

(a) Chemical substance and significant new uses subject to reporting. (1) The chemical substance identified as 1,3,5-triazine, 2,4,6-trichloro-, polymer with piperazine, reaction products with morpholine (PMN P-88-0436; CAS No. 1078142-02-5) is subject to reporting under this section for the significant new uses described in paragraph (a)(2) of this section.

* * * * *

[FR Doc. 2014-14259 Filed 6-17-14; 8:45 am]

BILLING CODE 6560-50-P